DEPARTMENT OF HEALTH AND HUMAN SERVICES

Meeting of the Physician-Focused Payment Model Technical Advisory Committee; Update

AGENCY: Office of the Assistant Secretary for Planning and Evaluation, Department of Health and Human Services.

ACTION: Notice.

SUMMARY: The Health and Human Services Department announces an update to the meeting address of the Physician-Focused Payment Model Technical Advisory Committee (hereafter referred to as “the Committee”) on Monday, February 1, 2016.

DATES: The meeting will be held on Monday, February 1, 2016, from 1:00 p.m. to 5:00 p.m. Eastern Standard Time (EST) and is open to the public.

ADDRESSES: The meeting will be held in Room 505A of the Hubert Humphrey Federal Building, 200 Independence Ave. SW., Washington, DC 20201.

FOR FURTHER INFORMATION CONTACT: Scott R. Smith, Ph.D., Designated Federal Officer, at the Office of Health Policy, Assistant Secretary for Planning and Evaluation, U.S. Department of Health and Human Services, 200 Independence Ave. SW., Washington, DC 20201, (202) 690-6870.

SUPPLEMENTARY INFORMATION:

Update: The meeting location has changed. The new meeting location is Room 505A of the Hubert Humphrey Federal Building, 200 Independence Ave. SW., Washington, DC 20201.

Table of Contents

I. Purpose

II. Agenda

III. Meeting Attendance

IV. Security and Building Guidelines

V. Special Accommodations

VI. Copies of the Charter

VII. Meeting Registration

I. Purpose

The Physician-Focused Payment Model Technical Advisory Committee (“the Committee”) is authorized by the Medicare Access and CHIP Reauthorization Act of 2015, 42 U.S.C 1395ee. This Committee is governed by the provisions of the Federal Advisory Committee Act, as amended (5 U.S.C App.), which sets forth standards for the formation and use of advisory committees. In accordance with its statutory mandate, the Committee is to review physician-focused payment model proposals and prepare recommendations regarding whether such models meet criteria that will be established through rulemaking by the Secretary of the Department of Health and Human Services (DHHS) (the Secretary). The Committee is composed of 11 members appointed by the Comptroller General with staggering terms of 1, 2, and 3 years as specified in the authorizing legislation.

II. Agenda

The Committee will receive information about MACRA implementation and about payment models currently being tested by the Center for Medicare & Medicaid Innovation within the Centers for Medicare & Medicaid Services (CMS).

III. Meeting Attendance

The first meeting (February 1, 2016) is open to the public; however, attendance is limited to space available. Priority will be given to those who pre-register and attendance may be limited based on the number of registrants and the space available.

Persons wishing to attend this meeting, which is located on federal property, must register by following the instructions in the “Meeting Registration” section of this notice. A confirmation email will be sent to the registrants shortly after completing the registration process.

IV. Security and Building Guidelines

The following are the security and building guidelines:

Persons attending the meeting, including presenters, must be pre-registered and on the attendance list by the prescribed date.

Individuals who are not pre-registered in advance may not be permitted to enter the building and may be unable to attend the meeting.

Attendees must present a government-issued photo identification to the Federal Protective Service or Guard Service personnel before entering the building. Without a current, valid photo ID, persons may not be permitted entry to the building.

All persons entering the building must pass through a metal detector.

All items brought into the Humphrey Building including personal items, for example, laptops and cell phones are subject to physical inspection.

The public may enter the building 30 to 45 minutes before the meeting convenes.

V. Special Accommodations

Individuals requiring special accommodations must include the request for these services during registration.

VI. Copies of the Charter

The Secretary's Charter for the Physician-Focused Payment Model Technical Advisory Committee is available on the ASPE Web site at https://aspe.hhs.gov/medicare-access-and-chip-reauthorization-act-2015.

VII. Meeting Registration

The public may attend the meeting in-person or listen via audio teleconference. Space is limited and registration is required. Registration may be completed online at www.regonline.com/PTACommitteeMeetingRegistration. All the following information must be submitted when registering:

Name.

Company name.

Postal address.

Email address.

If sign language interpretation or other reasonable accommodation for a disability is needed, please contact Scott R. Smith, no later than January 22, 2016 at the contact information listed below.

Dated: January 28th, 2016.
Arnold Epstein,
Deputy Assistant Secretary for the Office of Health Policy.

[FR Doc. 2016-02047 Filed 2-3-16; 8:45 am]

BILLING CODE 4150-05-P